DEPARTMENT OF THE INTERIOR

National Park Service

General Management Plan/Draft Environmental Impact Statement, Valley Forge National Historical Park, Pennsylvania

AGENCY: National Park Service, Department of the Interior.

ACTION: Notice of Availability of the Draft Environmental Impact Statement for the General Management Plan, Valley Forge National Historical Park.

SUMMARY: Pursuant to the National Environmental Policy Act of 1969, 42 U.S.C. 4332(2)(C), the National Park Service announces the availability of a Draft Environmental Impact Statement for the General Management Plan for Valley Forge National Historical Park, Pennsylvania.

DATES: The National Park Service will accept comments on the Draft Environmental Impact Statement from the public through 60 days from the date of publication of this notice in the Federal Register. Public meetings will be scheduled during the comment period. Interested persons may check the park Web site at http://www.nps.gov/vafo for date, time, and place.

ADDRESSES: Information will be available for public review and comment online at http://parkplanning.nps.gov, at the Valley Forge NHP Welcome Center, 1400 North Outer Line Drive, King of Prussia, Pennsylvania, 610-783-1099 and at the following locations:

Lower Providence Community Library, 50 Parklane Drive, Eagleville, PA 19403-1171.

Tredyffrin Public Library, 582 Upper Gulph Rd., Strafford-Wayne, PA 19087-2052.

Phoenixville Public Library, 183 Second Avenue, Phoenixville, PA 19460.

Montgomery County-Norristown Public Library, 1001 Powell Street, Norristown, PA 19401.

Upper Merion Township Library, 175 West Valley Forge Road, King of Prussia, PA 19406.

FOR FURTHER INFORMATION CONTACT: Deirdre Gibson, Valley Forge NHP, 1400 North Outer Line Drive, King of Prussia, Pennsylvania 19406, Deirdre_gibson@nps.gov.

SUPPLEMENTARY INFORMATION: If you wish to comment, you may submit your comments by any one of several methods. You may mail comments to Superintendent Mike Caldwell, Valley Forge NHP, 1400 North Outer Line Drive, King of Prussia, PA 19406. You may also comment via the Internet at http://parkplanning.nps.gov. If you do not receive a confirmation from the system that we have received your Internet message, contact us directly (Deirdre Gibson, 610-783-1047). Finally, you may hand-deliver comments to Valley Forge NHP, 1400 North Outer Line Drive, King of Prussia, PA 19406. Our practice is to make comments, including names, home addresses, home phone numbers, and email addresses of respondents, available for public review. Individual respondents may request that we withhold their names and/or home addresses, etc., but if you wish us to consider withholding this information, you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives of or officials of organizations or businesses, available for public inspection in their entirely.

Dated: October 26,2006.
Michael A. Caldwell,
Acting Director, Northeast Region, National Park Service.

[FR Doc. E6-18576 Filed 11-2-06; 8:45 am]

BILLING CODE 4310-DJ-P